DEPARTMENT OF LABOR

Employment and Training Administration

[TA-W-38,498]

Ingersoll Rand Company, Mayfield, Kentucky; Notice of Negative Determination Regarding Application for Reconsideration

By application dated April 4, 2001, the International Association of Machinists and Aerospace Workers, AFL-CIO, District Lodge 154 requested administrative reconsideration of the Department's negative determination regarding eligibility to apply for Trade Adjustment Assistance (TAA), applicable to workers and former workers of the subject firm. The denial notice was signed on February 23, 2001, and published in the Federal Register on April 5, 2001 (66 FR 18117).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Ingersoll Rand Company, Mayfield, Kentucky was denied because the “contributed importantly” group eligibility requirement of section 222(3) of the Trade Act of 1974, as amended, was not met. The denial was based on a layoff of workers resulting from a shift in production to a foreign location not yet occurring. Production did not decline. Minor sales declines did not contribute importantly to employment reductions at the Mayfield, Kentucky facility. Company imports from facilities abroad did not yet occur during the relevant period.

The petitioner requests reconsideration based on the information provided with their application. The information supplied depicts a shift in plant production to a foreign source and future imports of the products produced at the subject plant.

The Department of Labor was aware during the initial investigation that a shift in plant production to a foreign source was scheduled later in the year and that the shift would also lead to company imports later in the year. Since the company did not import during the relevant time period of the investigation, the “contributed importantly” factor was not met.

If conditions have changed since the initial investigation the workers are encouraged to reapply for eligibility under TAA.

Conclusion

After review of the application and investigative findings, I conclude that there has been no error or misinterpretation of the law or of the facts which would justify reconsideration of the Department of Labor's prior decision. Accordingly, the application is denied.

Signed at Washington, DC this 16th day of October 2001.
Edward A. Tomchick,
Director, Division of Trade Adjustment Assistance.

[FR Doc. 01-27793 Filed 11-5-01; 8:45 am]

BILLING CODE 4510-30-M